ENVIRONMENTAL PROTECTION AGENCY

[EPA-HQ-OAR-2006-0947; FRL-9204-8; EPA ICR No. 1857.05; OMB Control No. 2060-0445]

Agency Information Collection Activities; Submission to OMB for Review and Approval; Comment Request; NOX Budget Trading Program to Reduce the Regional Transport of Ozone (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 25, 2010.

ADDRESSES: Submit your comments, referencing Docket ID No. EPA-HQ-OAR-2006-0947 to (1) EPA online using http://www.regulations.gov (our preferred method), by e-mail to a-and-r-docket@epamail.epa.gov, or by mail to: EPA Docket Center, Environmental Protection Agency, Air and Radiation Docket and Information Center, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Karen VanSickle, Clean Air Markets Division, Office of Air and Radiation, Mailcode 6204J, Environmental Protection Agency, 1200 Pennsylvania Ave., NW., Washington, DC 20460; telephone number: (202) 343-9220; fax number: (202) 343-2361; e-mail address: vansickle.karen@epa.gov.

SUPPLEMENTARY INFORMATION: EPA has submitted the following ICR to OMB for review and approval according to the procedures prescribed in 5 CFR 1320.12. On March 25, 2010 (75 FR 14439), EPA sought comments on this ICR pursuant to 5 CFR 1320.8(d). EPA received no comments. Any additional comments on this ICR should be submitted to EPA and OMB within 30 days of this notice.

EPA has established a public docket for this ICR under Docket ID No. EPA-HQ-OAR-2006-0947, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: NOX Budget Trading Program to Reduce the Regional Transport of Ozone (Renewal).

ICR numbers: EPA ICR No. 1857.05, OMB Control No. 2060-0445.

ICR Status: This ICR is scheduled to expire on September 30, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The NOX Budget Trading Program is a market-based cap and trade program created to reduce emissions of nitrogen oxides (NOX) from power plants and other large combustion sources in the eastern United States. NOX is a prime ingredient in the formation of ground-level ozone (smog), a pervasive air pollution problem in many areas of the eastern United States. The NOX Budget Trading Program was designed to reduce NOX emissions during the warm summer months, referred to as the ozone season, when ground-level ozone concentrations are highest. In 2009 the program was replaced by the Clean Air Interstate Rule Ozone Season Trading Program (CAIROS). Although the trading program was replaced after the 2008 compliance season, this information collection is being renewed for two reasons. First, some industrial sources in certain States are still required to monitor and report emissions data to EPA under these rules, so we will account for their burden. Second, the Agency may at some future time, reinstitute the NOX Budget Trading Program. For example, this might happen if both the Clean Air Interstate Rule (CAIR) and CAIR replacement rules were vacated by the Court. All data received by EPA will be treated as public information.

Burden Statement: The annual public reporting and recordkeeping burden for this collection of information is estimated to average 136 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Electric utilities, industrial sources, and other persons.

Estimated Number of Respondents: 122.

Frequency of Response: Yearly, quarterly, occasionally.

Estimated Total Annual Hour Burden: 57,586.

Estimated Total Annual Cost: $7,466,951, which includes $3,777,000 annualized capital and O&M costs.

Changes in the Estimates: There is a decrease of 414,148 hours in the total estimated burden currently identified in the OMB Inventory of Approved ICR Burdens. Previous iterations of this ICR included a larger number of affected sources and burdens associated with program implementation that are now covered under several different ICR's including the Clean Air Interstate Rule (CAIR) (OMB Control Number 2060-0570) and the Air Emissions Reporting Rule (AERR) (OMB Control Number 2060-0580).

Dated: September 17, 2010.
John Moses,
Director, Collection Strategies Division.

[FR Doc. 2010-23865 Filed 9-22-10; 8:45 am]

BILLING CODE 6560-50-P